DEPARTMENT OF COMMERCE

International Trade Administration

[C-570-955]

Certain Magnesia Carbon Bricks From the People's Republic of China: Alignment of Final Countervailing Duty Determination With Final Antidumping Duty Determinations

AGENCY: Import Administration, International Trade Administration, Department of Commerce.

SUMMARY: The Department of Commerce (the Department) is aligning the final countervailing duty (CVD) determination for Certain Magnesia Carbon Bricks (Bricks) from the People's Republic of China (PRC) with the final determinations of the antidumping duty (AD) investigations of Bricks from the PRC and Mexico.

DATES: Effective Date: January 28, 2010.

FOR FURTHER INFORMATION CONTACT: Toni Page and Summer Avery, AD/CVD Operations, Office 6, Operations, Import Administration, U.S. Department of Commerce, Room 7867, 14th Street and Constitution Avenue, NW., Washington, DC 20230; telephone: (202) 482-1398 and (202) 482-4052, respectively.

SUPPLEMENTARY INFORMATION:

Case History

On August 18, 2009, the Department initiated the CVD investigation of Bricks from the PRC and the AD investigations of Bricks from the PRC and Mexico. See Certain Magnesia Carbon Bricks from the People's Republic of China: Initiation of Countervailing Duty Investigation, 74 FR 42858 (August 25, 2009) and Certain Magnesia Carbon Bricks from the People's Republic of China and Mexico: Initiation of Antidumping Duty Investigations, 74 FR 42852 (August 25, 2009). The CVD investigation and the AD investigations have the same scope with regard to the merchandise covered. On December 23, 2009, the Department published its preliminary CVD determination. See Certain Magnesia Carbon Bricks From the People's Republic of China: Preliminary Negative Countervailing Duty Determination, 74 FR 68241 (December 23, 2009) (CVD Preliminary Determination). On January 7, 2010, Petitioner ¹ submitted a letter, in accordance with section 705(a)(1) of the Tariff Act of 1930, as amended (the Act), requesting alignment of the final CVD determination with the final AD determinations of Bricks from the PRC and Mexico. In the letter, Petitioner acknowledges that it missed the regulatory deadline for filing the request and explained the extenuating circumstances.² Petitioner goes on to state that under these extenuating circumstances, the Department should accept its belated request for alignment.

¹ The Petitioner in the instant investigation is Resco Products Inc.

² These circumstances included the Department's partial or full closure during the five-day period after the CVD Preliminary Determination was published (from December 23, 2009 through December 28, 2009), and the firm's closure due to relocation from December 28, 2009 until January 5, 2010, which resulted in the firm's inability to access its computer systems until the completion of that move.

Alignment of the CVD Final Determination With the Final AD Determinations

According to 19 CFR 351.210(i), a petitioner must submit a written request to postpone the final CVD determination to the date of final determination in a companion AD investigation within five days of the date of publication of the preliminary CVD determination. However, because the five-day deadline is not a statutory deadline, the Department has discretion, pursuant to 19 CFR 351.302(b), to extend the deadline for filing an alignment request. The Department has decided to accept Petitioner's belated request to align the final CVD determination with the final AD determinations. The alignment of the final determination in this CVD investigation will ensure that the Department can thoroughly analyze the complicated and novel issues, which have arisen. In addition, the alignment will allow interested parties adequate time to comment on the Department's analyses.

Therefore, in accordance with 19 CFR 351.302(b), we are hereby extending the deadline for filing the alignment request and, in accordance with section 705(a)(1) of the Act, we are aligning the final CVD determination with the final AD determinations in the companion Bricks AD investigations. Consequently, the final CVD determination will be issued on the same date as the final AD determinations, which are currently scheduled to be issued no later than May 10, 2010, unless the final AD determinations are extended.

This determination is issued and published pursuant to Section 705(a)(1) of the Act.

Dated: January 22, 2010.
Ronald K. Lorentzen,
Deputy Assistant Secretary for Import Administration.

[FR Doc. 2010-1796 Filed 1-27-10; 8:45 am]

BILLING CODE 3510-DS-P